DEPARTMENT OF AGRICULTURE

Forest Service

Notice of New Fee Site; Federal Lands Recreation Enhancement Act (Title VIII, Pub. L. 108-447)

AGENCY: Coronado National Forest, USDA Forest Service, Tucson, Arizona.

ACTION: Notice of new fee site.

SUMMARY: The Coronado National Forest proposes to begin charging a new $150.00 per day fee for rental of the Kent Springs Cabin, located in Madera Canyon, 15 miles west of Green Valley, Arizona. Rental of the Cabin includes overnight use. Rental of other facilities within the Arizona National Forests has shown that the public appreciates and enjoys the availability of historic rental facilities. Funds from the rentals will be used for the continued operation and maintenance of the Kent Springs Cabin.

DATES: Kent Springs Cabin will become available for rent April, 2010.

ADDRESSES: Coronado National Forest, 300 West Congress, Tucson, AZ 85701.

FOR FURTHER INFORMATION CONTACT: Kathy Makansi, Archaeologist, Coronado National Forest, (520) 760-2502.

SUPPLEMENTARY INFORMATION: The Federal Recreation Lands Enhancement Act (Title VII, Pub. L. 108-447) directed the Secretary of Agriculture to publish a six month advance notice in the Federal Register whenever new recreation fee areas are established.

The Coronado National Forest currently has three other rental facilities. These facilities are booked regularly throughout the rental season. A business analysis for the rental of the Kent Springs Cabin shows that people desire having this sort of recreation experience on the Coronado National Forest. A market analysis indicates that the $150.00 daily fee is both reasonable and acceptable for this sort of unique recreation experience.

People wanting to rent the Kent Springs Cabin will need to do so through the National Recreation Reservation Service, at http://www.recreation.gov by calling 1-877-444-6777. The National Recreation Reservation Service charges a $9 fee per reservation.

Dated: May 28, 2009.
Jeanine A. Derby,
Forest Supervisor, Coronado National Forest.

[FR Doc. E9-13026 Filed 6-4-09; 8:45 am]

BILLING CODE 3410-11-M